DEPARTMENT OF HOMELAND SECURITY

Federal Emergency Management Agency

[Docket ID: FEMA-2024-0029]

Public Assistance Mitigation Cost Share Incentives Policy

AGENCY: Federal Emergency Management Agency, Department of Homeland Security.

ACTION: Notice of availability; request for comment.

SUMMARY: The Federal Emergency Management Agency (FEMA) is accepting comments on its newly issued Public Assistance Mitigation Cost Share Incentives Policy, FEMA Interim Policy FP-104-24-002.

DATES: Comments must be received no later than January 29, 2025.

ADDRESSES: You may submit comments, identified by Docket ID: FEMA-2024-0029, via the Federal eRulemaking Portal: https://www.regulations.gov. Follow the instructions for submitting comments.

FOR FURTHER INFORMATION CONTACT: Robert Pesapane, Director, Public Assistance Division, Federal Emergency Management Agency, fema-recovery-pa-policy@fema.dhs.gov, (202) 646-3834.

SUPPLEMENTARY INFORMATION:

I. Public Participation

Interested persons are invited to submit comments and related materials. We will consider all comments and materials received during the comment period.

If you submit a comment, include the docket ID, indicate the specific section of this document to which each comment applies, and give the reason for each comment. All submissions may be posted, without change, to the public docket at https://www.regulations.gov, and will include any personal information you provide. Therefore, submitting this information makes it public. For more about privacy and the docket, visit https://www.regulations.gov/privacy-notice.

The interim policy is available in docket ID FEMA-2024-0029. For access to the docket to read background documents or comments received, go to https://www.regulations.gov and search for the docket ID.

II. Background

Under section 406 of the Robert T. Stafford Disaster Relief and Emergency Assistance Act, as amended ¹ (Stafford Act), the President may provide financial assistance to eligible applicants for the repair, restoration, reconstruction, or replacement of an eligible facility damaged by a major disaster at a minimum Federal cost share of 75 percent.²

¹ Public Law 93-288, 42 U.S.C. 5121 et seq.

² 42 U.S.C. 5172.

The Bipartisan Budget Act of 2018 ³ amended the Stafford Act to add the new provision 406(b)(3) authorizing FEMA's Public Assistance (PA) program to increase the minimum Federal cost share for measures that increase readiness for, and resilience from, a major disaster.⁴

³ Public Law 115-123, 132 Stat. 64.

⁴ 42 U.S.C. 5172(b)(3).

This interim Public Assistance Mitigation Cost Share Incentives Policy applies to PA-eligible applicants, including State, local, Tribal, and Territorial governments and certain private nonprofit organizations, and implements section 406(b)(3) by providing guidance regarding eligible measures that meet FEMA's criteria for the Federal cost share increase up to 85 percent.

III. Maximizing the Value of Public Feedback

The impacts of Federal policies tend to be widely dispersed on society. Members of the public are likely to have useful information, data, and perspectives on the benefits and burdens of FEMA's existing programs and policies. FEMA seeks public feedback relevant to FEMA's interim Public Assistance Mitigation Cost Share Incentives Policy.

The following is meant to assist members of the public in formulating comments. This notice contains a list of five questions, the answers to which will assist FEMA in understanding how and why incentive measures in the interim policy are supported or opposed by stakeholders, and additional incentive measures that should be considered for inclusion in a future version of the policy. FEMA encourages public comment on these questions and seeks any other national-level data that commenters believe are relevant to FEMA's interim policy review. Below are recommendations for commenters to use when making comments in response to the questions, so that FEMA can better evaluate potential changes to the interim policy:

• Commenters should explain, with as much detail as possible, why an aspect of the interim policy should be modified and provide specific suggestions of ways the agency can better achieve its objectives.

• Commenters should provide specific national-level data that document the costs, burdens, and benefits of potentially new requirements to the extent they are available. Commenters might also address how FEMA can best obtain and consider accurate, objective information and data about the costs, burdens, and benefits of the interim policy and whether there are existing sources of data that FEMA can use to evaluate the effects of the interim policy over time.

• Commenters should identify with specificity administrative burdens, program requirements, information collection burdens, waiting time, or unnecessary complexity that may impose unjustified barriers in general, or that may have adverse effects on equity for all, including those in disadvantaged communities.

• Commenters should provide the number of the question(s) being answered in the commenter's response (e.g. In response to question #5 . . . ).

IV. Specific Information Requested

FEMA seeks comment on the interim policy, specifically on:

1. How will the activities incentivized through the interim policy increase resilience or decrease future risk? Please explain.

2. Will there be specific challenges faced by disadvantaged communities in meeting the requirements of the interim policy? In particular, will disadvantaged communities have challenges in adopting the building or energy codes necessary for the 10% increase in cost share? Please explain.

3. Are the incentives outlined in the policy sufficient to encourage additional investment or activity that would not have otherwise occurred? Why or why not?

4. Are there alternative measures that FEMA should consider incentivizing through the policy that would help to achieve greater readiness and resilience to future disasters? Some examples are outlined in the Bipartisan Budget Act of 2018, which authorized FEMA to provide the cost share incentives under the PA program, including: adoption of a mitigation plan, participation in the community rating system, and making investments in disaster relief, insurance, and emergency management programs. Please comment on those examples and/or provide additional examples.

5. Are there ways to make the interim policy more accessible or to decrease public burden in its implementation? Please provide examples.

Based on the comments received, FEMA may make appropriate revisions to the interim policy. When or if FEMA issues a final policy, FEMA will publish a notice of availability in the Federal Register and make the final policy available at https://www.regulations.gov. Responses to this notice do not bind FEMA to any further actions related to the responses. The final policy will not have the force and effect of law.

Authority: The Robert T. Stafford Disaster Relief and Emergency Assistance Act, as amended (Stafford Act), 42 U.S.C. 5121 et seq.; 44 CFR part 206.

Deanne Criswell,
Administrator, Federal Emergency Management Agency.

[FR Doc. 2024-22270 Filed 9-30-24; 8:45 am]

BILLING CODE 9111-23-P